DEPARTMENT OF AGRICULTURE

Natural Resources Conservation Service

Tanana River Floodplain Acquisition Project at Salcha, Alaska

AGENCY: Natural Resources Conservation Service, USDA.

ACTION: Notice of a finding of no significant impact.

SUMMARY: Pursuant to section 102(2)(C) of the National Environmental Policy Act of 1969; the Council on Environmental Quality Guidelines (40 CFR, part 1500); and the Natural Resources Conservation Service (formerly the Soil Conservation Service) Guidelines (7 CFR, part 650); the Natural Resources Conservation Service, U.S. Department of Agriculture, gives notice that an environmental impact statement is not being prepared for the Tanana River Floodplain Acquisition Project at Salcha, Alaska.

FOR FURTHER INFORMATION CONTACT: Ms. Febe Ortiz, Acting State Conservationist, Natural Resources Conservation Service, Alaska State Office, 800 West Evergreen Avenue, Suite 100, Palmer, AK 99645-6539; Phone: 907-761-7760; Fax: 907-761-7790.

SUPPLEMENTARY INFORMATION: The environmental assessment of this federally assisted action indicates that the project will not cause significant local, regional, or national impacts on the environment. As a result of these findings, Febe Ortiz, Acting State Conservationist, has determined that the preparation and review of an environmental impact statement are not needed for this project.

The project purpose is to reduce flood induced damages in the Tanana River floodplain at Salcha, Alaska and to restore floodplain function and values. The planned works of improvement include the voluntary acquisition of residential, commercial and other property; the removal and decommissioning of buildings and other facilities; and the re-vegetation and restoration of acquired sites. Restored land will be maintained, in perpetuity, for floodplain use and function.

The Notice of a Finding of No Significant Impact (FONSI) has been forwarded to the Environmental Protection Agency and other interested parties. A limited number of copies of the FONSI are available to fill single copy requests at the above address. Basic data developed during the environmental assessment are on file and may be reviewed by contacting Febe Ortiz.

No administrative action on implementation of the proposal will be taken until 30 days after the date of this publication in the Federal Register.

Dated: March 23, 2005.
Mark R. Weatherstone,
Acting State Conservationist.

(This activity is listed in the Catalog of Federal Domestic Assistance under No. 10.904—Watershed Protection and Flood Prevention—and is subject to the provisions of Executive Order 12372, which requires intergovernmental consultation with State and local officials.)

[FR Doc. 05-6225 Filed 3-29-05; 8:45 am]

BILLING CODE 3410-16-P